DEPARTMENT OF TRANSPORTATION

Federal Aviation Administration

14 CFR Part 71

[Docket No. FAA-2012-0966; Airspace Docket No. 12-AWA-5]

RIN 2120-AA66

Modification of Class B Airspace; Las Vegas, NV

AGENCY: Federal Aviation Administration (FAA), DOT.

ACTION: Final rule.

SUMMARY: This action modifies the Las Vegas, NV, Class B airspace area to ensure the containment of large turbine-powered aircraft within Class B airspace, reduce air traffic controller workload, and reduce the potential for midair collision in the Las Vegas, NV, terminal area.

DATES: Effective Date: 0901 UTC, August 22, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

On October 26, 2012, the FAA published in the Federal Register a notice of proposed rulemaking (NPRM) to modify the Las Vegas, NV, Class B airspace area (77 FR 65332). Interested parties were invited to participate in this rulemaking effort by submitting written comments on the proposal.

By letter dated December 7, 2012, the Aircraft Owners and Pilots Association (AOPA) requested that the FAA extend the comment period for at least 30 days. AOPA stated that the original comment period encompassed two Federal holiday periods and that no comments had been posted to the docket as of the date of their letter. The FAA determined that reopening of the comment period was consistent with the public interest. On January 14, 2013, the FAA published in the Federal Register a notice reopening the comment period until February 13, 2013 (78 FR 2646).

The Aircraft Owners and Pilots Association (AOPA) and six individuals responded to the NPRM comment periods. The FAA considered all comments received before making a determination on this final rule.

Discussion of Comments

Increasing the Class B Ceiling From 9,000 Feet MSL to 10,000 Feet MSL

AOPA commented that the higher ceiling would decrease Visual Flight Rules (VFR) pilots' ability to overfly the Class B airspace thus requiring them to circumnavigate the area.

The FAA acknowledges AOPA's concern, but believes the impact to general aviation to be minimal. With the 9,000-foot ceiling, in order to transition the Class B, general aviation pilots on westerly headings must: Receive clearance through Class B airspace; climb to 10,500 feet and overfly Class B; or circumnavigate the area. Raising the ceiling to 10,000 feet will only affect flights on easterly headings that prior to this rule overflew the airspace at 9,500 feet. If the pilot does not obtain Class B services at 9,500 feet, the aircraft can still overfly Class B at 11,500 feet or circumnavigate as they did previously.

AOPA also disagreed with the FAA's position that the higher ceiling is needed to reduce the number of Traffic Alert and Collision Avoidance System (TCAS) alerts between Las Vegas arrivals and aircraft transiting on VOR Federal airways V-21 and V-394. Instead, AOPA suggested that the Class B ceiling be raised only where needed, or that routes available for transition on those airways be altered.

The 9,000-foot MSL ceiling allows overflight of the Class B at 9,500 feet MSL. The FAA provided data during the development of Class B airspace modification that clearly identifies conflicts between the two airways and the arrival/departure procedures utilized at Las Vegas. If a general aviation aircraft is operating on the airway at 9,500 feet, and not communicating with ATC, the controller must take action to avoid any conflicts. Furthermore, when the controller has to stop an aircraft arrival above the VFR aircraft, the arrival aircraft has to come off its profile descent. This is also critical when a westbound departure's climb must be stopped below a VFR aircraft at 9,500 feet, or the departure must be vectored to avoid the nonparticipating traffic. The Minimum Vectoring Altitude (MVA) in this area is 10,000 feet MSL. The controller must then vector the aircraft around the V-394 traffic to gain altitude before directing the departure aircraft to resume its own navigation. Raising the ceiling to 10,000 feet MSL will allow profile descents to continue unimpeded, or allow ATC to approve and separate V-394 traffic from the profile descent aircraft. Departure procedures will also benefit from the higher ceiling.

Regarding the suggestion to raise the Class B ceiling only in selected areas, the Ad Hoc Committee considered that alternative and opined that raising the ceiling in that manner will add complexity to the airspace design. The FAA agrees to investigate alternative transitions through Class B for VFR aircraft. This was also discussed at length during the Ad Hoc Committee meetings. However, the FAA believes the Class B airspace must be modified first to fully evaluate transition routes.

AOPA questioned the FAA's statement in the NPRM that the increased ceiling height would provide more airspace for controllers to accomplish sequencing, later application of speed control, and would make the airspace easier for VFR pilots to identify. AOPA believes such an expansion of Class B airspace substantially would decrease flexibility, efficiency, and safety for general aviation aircraft operating outside of the Class B boundaries. Piston powered aircraft are significantly impacted by density altitude constraints. Any increase to the Las Vegas Class B ceiling height will limit the number of aircraft able to climb over the Class B, and will substantially increase the time, expense, and fuel required in doing so.

The FAA understands the Class B modifications will have impact on all users of the airspace, but we strive to minimize the impacts as much as possible. This policy was followed throughout the entire modernization process, and overall, the FAA believes that raising the ceiling from 9,000 feet MSL to 10,000 feet MSL has the least impact.

Another commenter claimed that the FAA chose to ignore advice from the Ad Hoc Committee regarding general aviation access to the airspace between 9,000 and 10,000 feet.

The Ad Hoc Committee could not reach consensus on the ceiling height issue. An Ad Hoc Committee meeting was held specifically to discuss the ceiling height, and after much discussion, four of the seven members voted to raise the ceiling. It was therefore submitted as a Committee recommendation to raise the ceiling to 10,000 feet.

One commenter stated that increasing the Class B ceiling to 10,000 MSL limits Sport Pilot operations transitioning the Las Vegas Valley, in that Sport pilots would be forced to fly low around the edges of the lower Class B shelves and closer to hazardous mountainous terrain.

Considering that the primary purpose of Class B airspace is to reduce the potential for midair collisions, the FAA acknowledges that under this rule, there will be some impact to airspace users. Title 14 CFR parts 61 and 91 provide guidance for sport pilots. Section 61.315 limits sport aircraft operations to a maximum of 10,000 feet MSL or 2,000 feet AGL, which ever is higher. Under that limitation, those sport pilot flights that transition today from the northeast to the southwest are already required to transition the area either by requesting Class B clearance or circumnavigating the Class B. Therefore, the effect of raising the ceiling from 9,000 to 10,000 feet MSL will only impact those who previously flew over the Class B airspace at 9,500 feet MSL from west to east.

One commenter stated that the Class B airspace configuration should not cause the surrounding air traffic to be put in greater danger of collision with each other and the terrain. The commenter added that, when departing south, southwest, and west, especially at night, terrain clearance under area G is inadequate. The commenter maintained that, even with Class B clearance, controllers tend to keep a pilot too low. The commenter said that trying to accommodate all possible approaches and departures within Class B airspace should not be at the expense of real safety concerns.

The FAA disagrees. On the contrary, the issue of raising the ceiling and any added risks that might be introduced by such action was thoroughly discussed during ad hoc committee and the public informal airspace meetings. The floor of Area G remains unchanged at 5,000 feet MSL. The FAA's proposal to modify Class B is driven by safety concerns about the potential for a midair collision if changes are not made in the Las Vegas Valley. Data has shown that if the airspace is modified as was proposed, the potential of a midair collision is reduced. FAA directives require that instrument procedures be contained within Class B airspace for the very purpose of reducing that potential. The FAA agrees that an added level of safety can be achieved by developing VFR transition routes in and around the valley, however such routes cannot be designed until the final Class B airspace configuration is determined.

Need for Transition Routes or Corridors Through the Las Vegas Valley

AOPA requested the establishment of a VFR transition route to allow easier access through the Class B, adding that the route should be located to allow routine and consistent availability.

The FAA agrees and has taken action outside the scope of this rulemaking action to develop transition routes through the valley. After the Class B airspace modifications are complete, the FAA will be able to better evaluate possible transition routes.

A commenter contended that the FAA failed to add RNAV terminal routes as requested by stakeholders.

The FAA disagrees. With any major airspace change, a baseline must be provided before specific routings can be determined. This is especially true in the Las Vegas Valley with its many constraints of terrain, close airport proximity, and special use airspace. In the case of this airspace modification project and its many challenges, all routes could not be developed prior to final airspace approval. One of the earliest challenges preventing us from developing the routes was that the Class B is too compressed to handle the traffic volume. While the above constraints limit the available options for establishing terminal routings, we will be able to further examine the issue once the Class B modification takes effect.

A commenter raised concerns about Area F and Area G (near Cottonwood Pass and Columbia Pass). Expanding Area G farther northwest at 5,000 feet MSL, and lowering the altitude of Area F to 7,000 feet MSL constricts VFR traffic that are transitioning southwest from North Las Vegas airport and attempting to remain clear of the LAS Class B and the mountainous terrain. Accidents have occurred in that area when ATC was unable to service VFR transitions through the Class B and aircraft were instructed to “remain clear of Class B,” especially at night. The lower Area F floor also condenses the airspace available for flight training.

The FAA understands that modifications in this area will impact general aviation and has met several times with local general aviation users to mitigate some of that impact. Previously, the LAS Class B did not fully contain instrument procedures in Class B airspace, in particular Area F. This particular area is heavily used for instrument operations at McCarran International Airport and by the Jean Airport glider community. It has been identified as a high risk potential for a midair collision. This is one area where the FAA needs to reduce that potential by developing transition routes. In its preliminary design, the FAA proposed to lower the floor of Area F to 6,000 feet MSL. The Ad Hoc Committee recommended the floor be set at 7,500 feet MSL. The FAA determined that the floor could be raised to 7,000 feet MSL but could not be raised any higher in order to contain the ILS approach serving Runway 1L at Las Vegas McCarran.

Complexity of the Class B Design

A commenter wrote that the FAA failed to accept an ad hoc committee recommendation to harmonize most area boundaries.

On the contrary, the FAA worked closely with the Ad Hoc Committee to adjust subarea boundaries to make the design as accommodating as possible for other users of the airspace. FAA Class B airspace design guidance calls for simplification of the airspace area configuration, and that the area must be designed to contain all instrument procedures within Class B airspace. However, the unique geography of the Las Vegas Valley, combined with the close proximity of several busy airports and special use airspace, created challenges in designing a Class B airspace area that fully meets both the simplification and containment requirements.

The FAA accepted most of the Ad Hoc Committee recommendations; however, not all recommendations could be fully adopted due to the requirement to contain instrument procedures within Class B airspace. The design of some areas, such as Area F and Area O, was determined by the configuration of instrument approach procedures into LAS and the need to contain those procedures within Class B airspace. As examples, Area C experienced a high Class B excursion rate for aircraft landing from the east and the Ad Hoc Committee agreed with lowering that floor. On the left downwind to Runway 25, ATC is required to have the aircraft in position to intercept the ILS glideslope at or below the glideslope altitude of 5,000 feet MSL. The eastbound profiles for the procedures previously kept aircraft contained in Class B to 6,000 feet MSL. By slightly aligning the boundaries of Areas A, B, and E, the FAA was able to capture the flight tracks within the Class B surface area. However, Area S was designed to contain instrument procedures and the holding pattern at the Boulder City VOR in the Class B. This precluded the use of a common boundary to define Areas B, D, P and S.

A more detailed discussion of the Ad Hoc Committee's recommendations for the design of various Class B subareas, and the FAA's responses, can be found in the NPRM.

Amendment of Area Floors

A commenter stated that the Las Vegas Class B airspace is already complicated, even for a skilled pilot familiar with the Las Vegas area. The airspace changes make it impossible to navigate for a less experienced VFR pilot new to Las Vegas airspace, especially in reduced visibility; and these changes make the airspace available only to IFR operations. The commenter contended that the proposed design creates various hazards for general aviation aircraft operating in the area. As a solution, the commenter suggested raising the floors of Areas C, F and O.

The floor of Area F is needed to contain approaches into LAS and cannot be raised. Area C has shown a high Class B excursion rate for aircraft landing from the east, and the ad hoc committee agreed to lower its floor. Area O also is designed to contain procedures.

Another commenter asked if a 7,000 foot MSL floor in Area F is needed for the ILS Runway 1L approach to LAS, or if the portion of Area F can kept at 8,000 feet MSL northwest, of and aligned with the 210R (M), proposed for Area R. The commenter said this would allow greater terrain clearance for VFR departures from the valley to the southwest along the Cottonwood and Columbia passes.

Area F was carefully considered in the airspace design phase, and several revisions were made prior to the design submitted for rulemaking. The FAA attempted to keep Area F aligned as much as feasible to simplify the design for the general aviation user. In discussion with local soaring club users at Jean Airport, Areas F and R were again re-defined, offering some relief to the impact that lowering the floor of Area F and adding the new Area R would have on their operation.

The commenter added that raising the floor of Class B for Area T is good for terrain avoidance for aircraft transitioning from KVGT to KHND and 0L7 (Jean Airport). However, the commenter believed it creates potential airspace violations for aircraft to descend back below 4,500 feet northbound or 5,000 feet southbound. The commenter suggested that the Area T boundaries be aligned with the proposed 255° radial (M) of Area G and with the Area I 280° radial (M).

Area T was derived from Ad Hoc Committee discussions proposing to raise the Class B floor west of LAS to at least 5,500 feet MSL to provide additional terrain clearance. However, the northern boundary of Area T could not be extended further due to interference with the STAAV Departure Procedure. Similarly, the southern Area T boundary could not be extended further into Area G because that airspace is needed to contain aircraft descending for the ILS Runway 25L and 25R approaches and to contain the SHEAD departure procedure.

A commenter said that lowering the floor of Area F and creating the new Area R makes the VFR Rocks Route more challenging when flying north into KVGT. The commenter suggested that the floor of Area I be raised from 4,500 to 5,000 feet to accommodate southwest departures from KVGT. Currently departures from KVGT are limited to under 4,500 feet and less than 200 degrees heading forcing steep climbs after exiting the Class B to get over southbound terrain which rises to 7,000-8,000 feet. Another commenter who regularly departs/arrives KHND to the southwest calls the proposed lowering of Area F floor from 8,000 to 7,000 feet unacceptable. He said that to clear the sharply rising terrain now, he flies as close as possible to the 5,000′ floor, and starts an aggressive climb the moment he's clear of that restriction and then continues climbing typically to 10,500 feet, just avoiding the 8,000′ floor. He said the onboard terrain warning often alerts during this departure. He stated that the return trip is similar and he sets the onboard terrain warning to 7,400 feet to clear the mountains between Sky Ranch and Goodsprings. He said that the 7,000′ floor will eliminate his primary corridor. He expressed similar concerns about the new subareas P and S.

The FAA, in collaboration with the Ad Hoc Committee, mitigated the impact of Areas F and R on general aviation users. Area F is amended, and Area R is added, to support a straight-in segment to the ILS 1L approach and the development of RNAV GPS/RNP approaches to Runways 1L and 1R. These areas are procedure criteria driven, and their base altitudes are the highest possible to meet that criteria. In an effort to further mitigate the impact of lowering the floors of these areas, we are going to establish VFR transition routes to assist in clearing terrain and segregating from these approach procedures, however this will be a separate project outside the scope of the Class B modification rule.

A commenter wrote that eastbound departures and westbound arrivals into KVGT are more challenging due to lowered floors in areas C, D, O and P, and being squeezed between Nellis AFB and McCarran traffic, and challenging terrain. This commenter added that high terrain allows little room to maneuver and avoid sudden changes in fast moving aircraft operating in/out of Nellis AFB. The commenter believes that changes present significant safety issues for general aviation traffic departing and arriving into KVGT during the day, with unacceptable risks at night. The commenter contended that this will discourage general aviation fight operations into KVGT for servicing such as Lone Mountain Aviation.

The FAA understands the need for relief from terrain and other airspace constraints and will evaluate all areas in the Las Vegas Valley where VFR transition routes would assist pilots and controllers in conducting traffic management in and out of KVGT. The FAA disagrees with the second half of this comment. Safety protocols are available to the general aviation user by the use of suggested VFR flyways identified on the Flyway Chart if the pilot chooses not to request Class B services.

One commenter proposed that published instrument procedures be altered to contain them within the Class B rather than expanding the airspace.

The FAA assesses the feasibility of amending existing routes and procedures prior to requesting an airspace modification. Instrument procedures are designed based on standard criteria to ensure safe flight. These criteria include factors such as flyability, obstruction clearance, navigation aid guidance parameters, etc. Little leeway is available to alter the design criteria. In the case of various procedures serving LAS, the design criteria preclude altering the procedures to remain within the existing Class B airspace. As discussed above, FAA directives require that all instrument procedures be contained within Class B airspace in order to reduce the potential for midair collisions in the terminal area. Since aircraft are currently exiting the Class B while flying the procedures, it is necessary to amend the airspace to contain those aircraft.

Denial of Class B Services to VFR Aircraft

Three commenters stated that VFR aircraft are regularly denied entry into the Las Vegas Class B airspace area. Consequently, VFR pilots are required to fly around, under or above the Class B.

Class B service for VFR aircraft is an “additional service” that ATC provides, subject to certain limitations. Higher priority duties (such as preventing collision between aircraft operating in the system) and other circumstances may prevent the provision of additional services at certain times. Recognizing the above conditions, the provision of additional services is not optional on the part of the controller, but rather is required when the work situation permits. Therefore, the decision to approve or deny requests from VFR pilots to operate in Class B airspace is based on controller workload, operational limitations and traffic conditions.

With the above guidelines in mind, VFR access to Las Vegas Class B airspace is limited by numerous factors. The runway configurations and IFR departure and arrival routings to each of the four current configurations at LAS preclude a standard for approving Class B transitions. In two of the four configurations, the potential to transition over the top of LAS is not available due to departure and arrival procedures and this option in the other two configurations is based solely on sector capacity and IFR overflight traffic. Transitions at higher altitudes (6,500 to 9,500 ft.) again are based on traffic volume from the west and southwest routes. Furthermore, the proximity of HND to the Runway 1L/R final approach courses and Runway 19 L/R departure courses impacts ATC ability to provide Class B service during times of moderate to heavy arrival or departure demand. The same applies with the proximity of VGT to the Runway 19L/R final approach courses and the Runway 1L/R departure courses. The FAA concurs that the few available VFR charted routings are insufficient to cover every aspect of the LAS operation. With the implementation of the new Class B, FAA has committed to meet with the community and user groups to develop additional charted VFR transition routes through the airspace. These routes will be built based on GPS technology and, in many cases, be configuration specific to meet the needs of the users and ATC.

NPRM Class B Chart

One person noted that the chart published with the NPRM appeared to show two Area T's. On that chart, the letter designator for the area around North Las Vegas Airport (Area I) did not print clearly and appeared to be a “T.” This has been corrected in the chart attached to this rule. The individual descriptions of Areas I and T as published in the NPRM are correct.

Differences From the NPRM

Minor corrections to the latitude/longitude coordinates have been added in the description of Areas D,G, I and P. This is the result of more accurate digital plotting of the airspace.

The Rule

The FAA is amending Title 14 of the Code of Federal Regulations (14 CFR) part 71 by modifying the Las Vegas, NV, Class B airspace area. This action (depicted on the chart in Figure 1—Modification of the Las Vegas, NV Class B Airspace Area) modifies the lateral and vertical limits of the Class B airspace to ensure the containment of large turbine-powered aircraft and enhance safety in the Las Vegas terminal area. This action modifies each of the original 15 subareas (A through O) and adds five new areas (P through T). The Class B lateral limits are expanded in several areas. To the east of LAS, Area P extends the outer Class B limit from 25 NM out to 30 NM between the 115°and 132° radials. On the southeast, Area S moves the 20 NM radius to 30 NM between the 115° and 132° radials. To the south, in Area R, the 20 NM radius changes to 23 NM between the 188° and 225° radials. To the southwest in Area G, a small segment extends from the 10 NM out to 20 NM bounded by the 240° radial.

This action also raises the ceiling of the entire Class B airspace area from 9,000 feet MSL to 10,000 feet MSL. The specific Class B subarea modifications are outlined below. All subareas extend upward from the specified altitude to 10,000 feet MSL.

Area A. Area A extends upward from the surface. The southern boundary of the area, in the vicinity of Henderson Executive Airport (HND), is modified by moving the boundary that lies west of HND from the 180° radial to the 185° radial. This provides more airspace for operations at HND. In addition, the southeast corner of Area A is shifted from the 115° radial to the 119° radial to ensure containment of aircraft joining the ILS Runway 25L and 25R approaches.

Area B. The floor of Area B remains at 4,500 feet MSL. The southern boundary of the area moves from the 115° radial to the 119° radial, with a segment along the 16-mile arc in order to retain aircraft in Class B airspace as they descend to capture the ILS Runway 25L or 25R localizer.

Area C. The floor of Area C is lowered from 6,500 feet to 6,000 feet MSL. The southern boundary is moved from the 125° radial to the 083° radial. On the east, the 20-mile arc is moved out to the 22-mile arc. These changes ensure that aircraft are kept in Class B airspace and still allow for a stabilized approach to runways 19L and 19R. The FAA determined that not all of the Area C airspace must be lowered to 6,000 feet MSL. Therefore, Area C is reduced in size by shifting that portion south of the 083° radial into Area D with a floor of 6,500 feet MSL.

Area D. Area D is reconfigured by lowering the floor from 8,000 feet MSL to 6,500 feet MSL, resetting the boundaries between the 16- and 22-mile arcs instead of the 20- and 25-mile arcs and incorporating a portion of Area C, as described above. The changes support SUNST and KEPEC RNAV arrivals being vectored to intercept the Runway 25L localizer.

Area E. The floor of Area E remains at 6,000 feet MSL. The boundary is moved from the 115° radial to the 119° radial. This change is required to contain aircraft descending to the proper altitude to capture the ILS approach for Runway 25L or 25R.

Area F. The floor of Area F is lowered from 8,000 feet MSL to 7,000 feet MSL and the eastern boundary is shifted from the 125° radial to the 185° radial. This change contains aircraft that currently exit Class B airspace on the ILS Runway 1L approach.

Area G. The floor of Area G remains at 5,000 feet MSL. The boundary segment currently along the 235° radial is moved to the 240° radial and the segment defined by the 295° radial is shifted to the 255° radial. The remaining segment between the 255° radial and the 295° radial is redesignated as a new Area T, described below. These changes allow aircraft to remain within Class B airspace while descending for the ILS Runway 25L or 25R approaches and to contain the SHEAD Departure Procedure.

Area H. The floor of Area H remains at 4,000 feet MSL. The northern boundary moves from the 295° radial to the 310° radial and the southern boundary moves from the 180° radial to the 185° radial. The 185° radial aligns with previously described area modifications, while the 310° boundary extends the 4,000-foot Class B floor slightly northward (into the current Area I) to provide separation from the STAAV departure procedure.

Area I. The floor of Area I remains at 4,500 feet MSL, but a small segment in the southern corner of Area I is transferred into Area H (with its 4,000-foot MSL floor) as described above.

Area J, Area K, Area L, Area M and Area N. The only change to these areas is raising the ceiling from 9,000 feet MSL to 10,000 feet MSL.

Area O. The floor of Area O is lowered to 7,000 feet MSL instead of the current 8,000 feet MSL. In addition, the boundaries are realigned between the 22- and 25-mile arcs from the 046° radial clockwise to the 083° radial. These changes ensure the containment of arrivals executing the Runway 25L ILS approach, the GRNPA RNAV Arrival and aircraft being vectored from the east to land on Runways 19L and 19R.

Area P. This is a new subarea with a floor of 8,000 feet MSL. It extends from the 060° radial clockwise to the 115° radial and bounded on the east by the 30-mile arc and on the west by Areas D and O. Area P provides containment for four RNAV arrival procedures.

Area Q. This is a new subarea with a floor of 8,000 feet MSL. It lies between the 15- and 20-mile arcs from the 132° radial clockwise to the 185° radial. It consists of airspace currently in the eastern half of Area F. Area Q contains aircraft being vectored from the southeast to a point where they are turned north for a straight-in approach.

Area R. Area R is a new subarea with a floor of 8,000 feet MSL. It expands Class B airspace from the 20-mile arc out to the 23-mile arc, between the 188° radial clockwise to the 225° radial. Area R ensures the containment of aircraft being vectored for the ILS Runway 1L approach.

Area S. Area S is a new area with a floor of 7,000 feet MSL. It is located southeast of LAS between the 15- and 27-mile arcs and between the 115° and 132° radials. The area is required to ensure containment of operational procedures into LAS.

Area T. Area T is a new area with a floor of 5,500 feet MSL. Area T lies west of LAS between the 8- and 10-mile arcs, and the 255° and the 295° radials. This area is taken from a portion of the existing Area G. (Area T was derived from Ad Hoc Committee discussions proposing to raise the floor of the Class B west of LAS to at least 5,500 feet MSL to provide additional airspace for terrain clearance and flight above populated areas for general aviation operations).

In addition to the above, this action updates the McCarran International Airport reference point (ARP); the Henderson Executive Airport name and ARP; and the North Las Vegas Airport name and ARP to reflect the current information in the FAA's National Airspace System Resource database.

All radials in this rule are expressed in degrees relative to True North.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this rule.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a final rule does not warrant a full evaluation, this order permits that a statement to that effect and the basis for it be included in the preamble if a full regulatory evaluation of the costs and benefits is not prepared. Such a determination has been made for this final rule. The reasoning for this determination follows:

In conducting these analyses, the FAA has determined that this final rule:

(1) Imposes minimal incremental costs and provides benefits,

(2) Is not an economically “significant regulatory action” as defined in section 3(f) of Executive Order 12866,

(3) Is not significant as defined in DOT's Regulatory Policies and Procedures;

(4) Will not have a significant economic impact on a substantial number of small entities;

(5) Will not have a significant effect on international trade; and

(6) Will not impose an unfunded mandate on state, local, or tribal governments, or on the private sector by exceeding the monetary threshold identified.

These analyses are summarized below.

This final rule modifies the Las Vegas, NV, Class B airspace area to ensure the containment of large turbine-powered aircraft within Class B airspace, reduce controller workload and reduce the potential for midair collision in the Las Vegas terminal area. This final rule modifies the original subareas, adds new subareas and raises the ceiling of the entire Class B airspace from 9,000 feet MSL to 10,000 feet MSL.

This final rule will result in safety benefits and increased operational efficiencies. This rule enhances safety by reducing the number of Class B excursions and consequently reducing air traffic controller workload and radio frequency congestion. By expanding the Class B area where aircraft are subject to certain operating rules and equipment requirements this rule also reduces the potential for midair collisions and possibly reduces TCAS advisories by as much as 25%. The modification of the class B airspace area provides operation advantages as well, such as allowing more airspace for controllers to accomplish sequencing and reducing the need for controllers to vector LAS arrivals and departures to avoid nonparticipating traffic.

As described in the NPRM, the FAA expects that the costs of the final rule may include the necessity for some VFR traffic to travel alternative routes. However these alternative routes are not expected to be appreciably longer than the routes with the previous airspace design. This is expected to result in minimal cost overall, does not require the updating of materials outside the normal update cycle, and does not require the rerouting of IFR traffic.

The FAA received no comments on the FAA's request for comments on the minimal cost determination. Therefore the FAA has determined that this final rule is not a “significant regulatory action” as defined in section 3(f) of Executive Order 12866, and is not “significant” as defined in DOT's Regulatory Policies and Procedures.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

In the Initial Regulatory Flexibility Analysis, the FAA determined that the proposed rule would improve safety and efficiency by redefining Class B airspace boundaries and would impose only minimal costs because it would not require rerouting of IFR traffic, could possibly cause some VFR traffic to travel alternative routes that are not expected to be appreciably longer than with the current airspace design, and would not require updating of materials outside the normal update cycle. Therefore, the expected outcome would be a minimal economic impact on small entities affected by this rulemaking action.

The FAA requested comments on this determination but received no comments on small entity considerations.

Therefore, the FAA Administrator certifies that this final rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA assessed the potential effect of this proposed rule in the NPRM and determined that it would have no effect on international trade. The FAA received no comments on this determination.

Therefore, the FAA has determined that this final rule will have no impact on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 3000 Subpart B—Class B Airspace.

* * * * *

AWP NV B Las Vegas, NV

McCarran International Airport (Primary Airport)

(Lat. 36°04′48″ N., long. 115°09′08″ W.)

Las Vegas VORTAC

(Lat. 36°04′47″ N., long. 115°09′35″ W.)

Henderson Executive Airport

(Lat. 35°58′22″ N., long. 115°08′04″ W.)

North Las Vegas Airport

(Lat. 36°12′39″ N., long. 115°11′40″ W.)

Boundaries

Area A. That airspace extending upward from the surface to and including 10,000 feet MSL within an area bounded by a line beginning at the Las Vegas VORTAC 020° radial at 15 DME (lat. 36°18′54″ N., long. 115°03′14″ W.); thence along a line direct to the Las Vegas VORTAC 033° radial at 20 DME (lat. 36°21′34″ N., long. 114°56′ 06″ W.); thence northeast along that radial to the 25 DME point (lat. 36°25′46″ N., long. 114°52′43″ W.); thence clockwise along the 25 DME arc to the Las Vegas VORTAC 046° radial (lat. 36°22′08″ N., long. 114°47′19″ W.); thence southwest along that radial, to the 10 DME point (lat. 36°11′44″ N., long. 115°00′42″ W.); thence clockwise along the 10 DME arc to the Las Vegas VORTAC 119° radial (lat. 35°59′ 55″ N., long. 114°58′49″ W.); thence west along a line direct to the Las Vegas VORTAC 185° radial at 4.4 DME (lat. 36°00′24″ N., long. 115°10′04″ W.); thence south along that radial to the 6 DME point (lat. 35°58′48″ N., long. 115°10′14″ W.); thence clockwise along the 6 DME arc to (lat. 36°10′19″ N., long. 115°12′29″ W.); thence counterclockwise along the 2.4-mile radius arc of North Las Vegas Airport to lat. 36°12′04″ N., long. 115°08′47″ W.; thence north along the Las Vegas VORTAC 005° radial to 15 DME (lat. 36°19′45″ N., long. 115°07′58″ W.); thence clockwise along the 15 DME arc to the point of beginning.

Area B. That airspace extending upward from 4,500 feet MSL to and including 10,000 feet MSL within an area bounded by a line beginning at the Las Vegas VORTAC 046° radial at 10 DME, (lat. 36°11′44″ N., long 115°00′42″ W.); thence northeast along that radial to 15 DME (lat. 36°15′12″ N., long. 114°56′15″ W.); thence clockwise along the 15 DME arc to the Las Vegas VORTAC 083° radial (lat. 36°06′35″ N., long. 114°51′13″ W.); thence east along that radial to 16 DME (lat. 36°06′43″ N., long. 114°49′59″ W.); thence clockwise along the 16 DME arc to the Las Vegas VORTAC 115° radial (lat. 35°57′59″ N., long. 114°51′43″ W.); thence northwest along that radial to 15 DME (lat. 35°58′25″ N., long. 114°52′50″ W.); thence clockwise along the 15 DME arc to the Las Vegas VORTAC 119° radial (lat. 35°57′29″ N., long. 114°53′26″ W.); thence northwest along that radial to 10 DME (lat. 35°59′55″ N., long. 114°58′49″ W.); thence counterclockwise along the 10 DME arc to the point of beginning.

Area C. That airspace extending upward from 6,000 feet MSL to and including 10,000 feet MSL within an area bounded by a line beginning at the Las Vegas VORTAC 046° radial at 15 DME (lat. 36°15′12″ N., long. 114°56′15″ W.); thence northeast along that radial to 22 DME (lat. 36°20′04″ N., long.114°50′00″ W.); thence clockwise along the 22 DME arc to the Las Vegas VORTAC 083° radial (lat. 36°07′25″ N., long. 114°42′38″ W.); thence northwest along that radial to 15 DME (lat. 36°06′35″ N., long. 114°51′13″ W.); thence counterclockwise along the 15 DME arc to the point of beginning.

Area D. That airspace extending upward from 6,500 feet MSL to and including 10,000 feet MSL within an area bounded by a line beginning at the Las Vegas VORTAC 083° radial at 16 DME (lat. 36°06′43″ N., long. 114°49′59″ W.); thence northeast along that radial to 23 DME (lat. 36°07′32″ N., long. 114°41′24″ W.); thence clockwise along the 23 DME arc to the Las Vegas VORTAC 115° radial (lat. 35°55′00″ N., long. 114°43′55″ W.); thence west along that radial to 16 DME (lat. 35°57′59″ N., long. 114°51′43″ W.); thence counterclockwise along the 16 DME arc to the point of beginning.

Area E. That airspace extending upward from 6,000 feet MSL to and including 10,000 feet MSL within an area bounded by a line beginning at the Las Vegas VORTAC 119° radial at 10 DME (lat. 35°59′55″ N., long. 114°58′49″ W.); thence southeast along that radial to 15 DME (lat. 35°57′29″ N., long. 114°53′26″ W.); thence clockwise along the 15 DME arc to the Las Vegas VORTAC 185° radial (lat. 35°49′49″ N., long. 115°11′12″ W.); thence north along that radial to 10 DME (lat. 35°54′48″ N., long. 115°10′40″ W.); thence counterclockwise along the 10 DME arc to the point of beginning.

Area F. That airspace extending upward from 7,000 feet MSL to and including 10,000 feet MSL within an area bounded by a line beginning at the Las Vegas VORTAC 185° radial at 15 DME (lat. 35°49′49″ N., long. 115°11′12″ W.); thence south along that radial to 20 DME (lat. 35°44′50″ N., long. 115°11′44″ W.); thence clockwise along the 20 DME arc to the Las Vegas VORTAC 235° radial (lat. 35°53′16″ N., long. 115°29′45″ W.); thence northeast along that radial to 15 DME (lat. 35°56′09″ N., long. 115°24′43″ W.); thence counterclockwise along the 15 DME arc to the point of beginning.

Area G. That airspace extending upward from 5,000 feet MSL to and including 10,000 feet MSL within an area bounded by a line beginning at the Las Vegas VORTAC 119° radial at 10 DME (lat. 35°59′55″ N., long. 114°58′49″ W.); thence clockwise along the 10 DME arc to the Las Vegas VORTAC 185° radial (lat. 35°54′48″ N., long. 115°10′40″ W.); thence south along that radial to 15 DME (lat. 35°49′49″ N., long. 115°11′12″ W.); thence clockwise along the 15 DME arc to the Las Vegas 240° radial (lat. 35°57′15″ N., long. 115°25′35″ W.); thence northeast along that radial to 10 DME (lat. 35°59′46″ N., long. 115°20′16″ W.); thence clockwise along the 10 DME arc to the Las Vegas VORTAC 255° radial (lat. 36°02′11″ N., long. 115°21′30″ W.); thence east along that radial to 8 DME (lat. 36°02′42″ N., long. 115°19′07″ W.); thence counterclockwise along the 8 DME arc to the Las Vegas VORTAC 185° radial (lat. 35°56′48″ N., long. 115°10′27″ W.); thence north along that radial to the Las Vegas VORTAC 185° radial at 4.4 DME (lat. 36°00′24″ N., long. 115°10′04″ W.); thence east along a line direct to the point of beginning.

Area H. That airspace extending upward from 4,000 feet MSL to and including 10,000 feet MSL within an area bounded by a line beginning at the Las Vegas 310° radial at 8 DME (36°09′56″ N., long. 115°17′09″ W.); thence southeast along that radial to 6 DME (lat. 36°08′39″ N., long. 115°15′16″ W.); thence counterclockwise along the 6 DME arc to the Las Vegas VORTAC 185° radial (lat. 35°58′48″ N., long. 115°10′14″ W.); thence south along that radial to 8 DME (lat. 35°56′48″ N., long. 115°10′27″ W.); thence clockwise along the 8 DME arc to the point of beginning.

Area I. That airspace extending upward from 4,500 feet MSL to and including 10,000 feet MSL within an area bounded by a line beginning at the Las Vegas VORTAC 310° radial at 6 DME (lat. 36°08′39″ N., long. 115°15′16″ W.); thence northwest along that radial to 8 DME (lat. 36°09′56″ N., long. 115°17′09″ W.); thence counterclockwise along the 8 DME arc to the Las Vegas VORTAC 295° radial (lat. 36°08′10″ N., long. 115°18′32″ W.); thence northwest along that radial to 10 DME (lat. 36°09′00″ N., long. 115°20′47″ W.); thence clockwise along the 10 DME arc to lat. 36°14′10″ N., long.115°13′52″ W.; thence northwest along US Highway 95 to lat. 36°15′04″ N., long. 115°14′28″ W.; thence clockwise along the Las Vegas VORTAC 11 DME arc to the Las Vegas VORTAC 005° radial (lat. 36°15′45″ N., long. 115°08′24″ W.); thence south along the Las Vegas VORTAC 005° radial to lat. 36°12′04″ N., long. 115°08′47″ W.; thence clockwise along the 2.4-mile radius arc of the North Las Vegas Airport to lat. 36°10′19″ N., long. 115°12′29″ W.; thence counterclockwise along the Las Vegas VORTAC 6 DME arc to the point of beginning.

Area J. That airspace extending upward from 5,000 feet MSL to and including 10,000 feet MSL within an area bounded by a line beginning at the Las Vegas VORTAC 005° radial at 11 DME (lat. 36°15′45″ N., long. 115°08′24″ W.); thence north along that radial to 15 DME (lat. 36°19′45″ N., long. 115°07′58″ W.); thence counterclockwise along the 15 DME arc to US Highway 95 (lat. 36°18′22″ N., long. 115°17′31″ W.); thence southeast along US Highway 95 to the 11 DME arc (lat. 36°15′04″ N., long. 115°14′28″ W.); thence clockwise along the 11 DME arc to the point of beginning.

Area K. That airspace extending upward from 6,500 feet MSL to and including

10,000 feet MSL within an area beginning at the intersection of U.S. Highway 95 and the Las Vegas VORTAC 15 DME arc (lat. 36°18′22″ N., long. 115°17′31″ W.); thence northwest along U.S. Highway 95 to intersect the Las Vegas VORTAC 20 DME arc (lat. 36°22′11″ N., long. 115°21′49″ W.); thence clockwise along the 20 DME arc to the Las Vegas VORTAC 033° radial (lat. 36°21′34″ N., long. 114°56′06″ W.); thence via a line direct to the Las Vegas VORTAC 020° radial at 15 DME (lat. 36°18′54″ N., long. 115°03′14″ W.); thence counterclockwise along the 15 DME arc to the point of beginning.

Area L. That airspace extending upward from 7,500 feet MSL to and including 10,000 feet MSL bounded by a line beginning at the Las Vegas VORTAC 033° radial at 36 DME (lat. 36°34′59″ N., long. 114°45′15″ W.); thence southwest along that radial to 20 DME (lat. 36°21′34″ N., long. 114°56′06″ W.); thence counterclockwise along the 20 DME arc to U.S. Highway 95 (lat. 36°22′11″ N., long. 115°21′49″ W.); thence direct to the Las Vegas VORTAC 005° radial at 36 DME (lat. 36°40′42″ N., long. 115°05′41″ W.); thence clockwise along the 36 DME arc to the point of beginning.

Area M. That airspace extending upward from 5,000 feet MSL to and including 10,000 feet MSL within an area bounded by a line beginning at the Las Vegas VORTAC 033° radial at 30 DME (lat. 36°29′57″ N., long. 114°49′19″ W.); thence clockwise along the 30 DME arc to the Las Vegas VORTAC 046° radial (lat. 36°25′36″ N., long. 114°42′51″ W.); thence southwest along that radial to 25 DME (lat. 36°22′08″ N., long. 114°47′19″ W.); thence counterclockwise along the 25 DME arc to the Las Vegas VORTAC 033° radial (lat. 36°25′46″ N., long. 114°52′43″ W.); thence northeast along that radial to the point of beginning.

Area N. That airspace extending upward from 7,000 feet MSL to and including 10,000 feet MSL within an area bounded by a line beginning at the Las Vegas VORTAC 033° radial at 36 DME (lat. 36°34′59″ N., long. 114°45′15″ W.); thence clockwise along the 36 DME arc to the Las Vegas VORTAC 046° radial (lat. 36°29′45″ N., long. 114°37′28″ W.); thence southwest along that radial to 30 DME (lat. 36°25′36″ N., long. 114°42′51″ W.); thence counterclockwise along the 30 DME arc to the Las Vegas VORTAC 033° radial (lat. 36°29′57″ N., long. 114°49′19″ W.); thence northeast along that radial to the point of beginning.

Area O. That airspace extending upward from 7,000 feet MSL to and including 10,000 feet MSL within an area bounded by a line beginning at the Las Vegas VORTAC 046° radial at 25 DME (lat. 36°22′08″ N., long. 114°47′19″ W.); thence clockwise along the 25 DME arc to the Las Vegas VORTAC 083° radial (lat. 36°07′46″ N., long. 114°38′57″ W.); thence west along that radial to 22 DME (lat. 36°07′25″ N., long. 114°42′38″ W.); thence counterclockwise along the 22 DME arc to the Las Vegas VORTAC 046° radial (lat. 36°20′04″ N., long 114°50′00″ W.); thence northeast along that radial to the point of beginning.

Area P. That airspace extending upward from 8,000 feet MSL to and including 10,000 feet MSL within an area bounded by a line beginning at the Las Vegas VORTAC 060° radial at 25 DME (lat. 36°17′15″ N., long. 114°42′48″ W.); thence northeast along that radial to 30 DME (lat. 36°19′44″ N., long. 114°37′26″ W.); thence clockwise along the 30 DME arc to the Las Vegas VORTAC 115° radial (lat. 35°52′00″ N., long. 114°36′08″ W.); thence northwest along that radial to 23 DME (lat. 35°55′00″ N., long. 114°43′55″ W.); thence counterclockwise along the 23 DME arc to the Las Vegas VORTAC 083° radial (lat. 36°07′32″ N., long. 114°41′24″ W.); thence east along that radial to 25 DME (lat. 36°07′46″ N., long. 114°38′57″ W.); thence counterclockwise along the 25 DME arc to the point of beginning.

Area Q. That airspace extending upward from 8,000 feet MSL to and including 10,000 feet MSL within an area bounded by a line beginning at the Las Vegas VORTAC 132° radial at 15 DME (lat. 35°54′43″ N., long. 114°55′52″ W.); thence southeast along that radial to 20 DME (lat. 35°51′21″ N., long. 114°51′18″ W.); thence clockwise along the 20 DME arc to the Las Vegas VORTAC 185° radial (lat. 35°44′50″ N., long. 115°11′44″ W.); thence north along that radial to 15 DME (lat. 35°49′49″ N., long. 115°11′12″ W.); thence counterclockwise along the 15 DME arc to the point of beginning.

Area R. That airspace extending upward from 8,000 feet MSL to and including 10,000 feet MSL within an area bounded by a line beginning at Las Vegas VORTAC 188° radial at 20 DME (lat. 35°44′57″ N., long. 115°13′00″ W.); thence south along that radial to 23 DME (lat. 35°41′58″ N., long. 115°13′31″ W.); thence clockwise along the 23 DME arc to the Las Vegas VORTAC 225° radial (lat. 35°48′28″ N., long. 115°29′35″ W.); thence northeast along that radial to 20 DME (lat. 35°50′36″ N., long. 115°26′59″ W.); thence counterclockwise along the 20 DME arc to the point of beginning.

Area S. That airspace extending upward from 7,000 feet MSL to and including 10,000 feet MSL within an area bounded by a line beginning at the Las Vegas VORTAC 115° radial at 15 DME (lat. 35°58′25″ N., long. 114°52′50″ W.); thence southeast along that radial to 27 DME (lat. 35°53′18″ N., long. 114°39′28″ W.); thence clockwise along the 27 DME arc to the Las Vegas VORTAC 132° radial (lat. 35°46′39″ N., long. 114°44′56″ W.); thence northwest along that radial to 15 DME (lat. 35°54′43″ N., long. 114°55′52″ W.); thence counterclockwise along the 15 DME arc to the point of beginning.

Area T. That airspace extending upward from 5,500 feet MSL to and including 10,000 feet MSL within an area bounded by a line beginning at the Las Vegas VORTAC 255° radial at 8 DME (lat. 36°02′42″ N., long. 115°19′07″ W.); thence west along that radial to 10 DME (lat. 36°02′11″ N., long. 115°21′30″ W.); thence clockwise along the 10 DME arc to the Las Vegas VORTAC 295° radial (lat. 36°09′00″ N., long. 115°20′47″ W.); thence southeast along that radial to 8 DME (lat. 36°08′10″ N., long. 115°18′32″ W.); thence counterclockwise along the 8 DME arc to the point of beginning.

Issued in Washington, DC, on July 10, 2013.
Gary A. Norek,
Manager, Airspace Policy and ATC Procedures Group.

[FR Doc. 2013-17477 Filed 7-19-13; 8:45 am]

BILLING CODE 4910-13-P